DEPARTMENT OF HOMELAND SECURITY

Coast Guard

33 CFR Part 100

[USCG-2023-0899]

Special Local Regulations; Marine Events Within the Captain of the Port Charleston

AGENCY: Coast Guard, Department of Homeland Security (DHS).

ACTION: Notification of enforcement of regulation.

SUMMARY: The Coast Guard will enforce the special local regulation for the Charleston Parade of Boats on December 9, 2023, to provide for the safety of life on navigable waterways during this event. Our regulation for marine events within the Captain of the Port Charleston identifies the regulated area for this event in Charleston, SC. During the enforcement period, no person or vessel may enter, transit through, anchor in, or remain within the regulated area unless authorized by the Coast Guard Patrol Commander or a designated representative.

DATES: The regulations in 33 CFR 100.704 will be enforced from 4 p.m. through 8 p.m. on December 9, 2023, for the location identified in paragraph (d), Item 10 in table 1 to § 100.704.

FOR FURTHER INFORMATION CONTACT: If you have questions about this notification of enforcement, call or email Lieutenant James Sullivan, Sector Charleston Waterways Management Division, U.S. Coast Guard; telephone 843-740-3184, email James.P.Sullivan2@uscg.mil.

SUPPLEMENTARY INFORMATION: The Coast Guard will enforce the special local regulation in 33 CFR 100.704 for the Charleston Parade of Boats regulated area identified in table 1 to § 100.704, paragraph (d), Item 10, from 4 p.m. until 8 p.m. on December 9, 2023. This action is being taken to provide for the safety of life on navigable waterways during this event. Our regulation for recurring marine events, Captain of the Port Charleston, § 100.704, paragraph (d), Item 10, specifies the location of the regulated area for the Charleston Parade of Boats, which encompasses portions of the Charleston Harbor located in Charleston, SC, including Anchorage A, Shutes Folly, Bennis Reach, Horse Reach, Hog Island Reach, Town Creek Lower Reach, and Ashley River. Under the provisions of 33 CFR 100.704, all persons and vessels are prohibited from entering the regulated area, except those persons and vessels participating in the event, unless they receive permission to do so from the Coast Guard Patrol Commander, or designated representative.

Spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: November 27, 2023.
F.J. Delrosso,
Captain, U.S. Coast Guard, Captain of the Port Charleston.

[FR Doc. 2023-26844 Filed 12-6-23; 8:45 am]

BILLING CODE 9110-04-P